DEPARTMENT OF STATE

[Public Notice: 9281]

Defense Trade Advisory Group; Notice of Open Meeting

SUMMARY: The Defense Trade Advisory Group (DTAG) will meet in open session from 1 p.m. until 5 p.m. on Thursday, October 29, 2015 at 1777 F Street, NW., Washington, DC Entry and registration will begin at 12:30 p.m. The membership of this advisory committee consists of private sector defense trade representatives, appointed by the Assistant Secretary of State for Political-Military Affairs, who advise the Department on policies, regulations, and technical issues affecting defense trade. The purpose of the meeting will be to discuss current defense trade issues and topics for further study.

The following agenda topics will be discussed: (1) Trade Compliance Process. Review of the current Voluntary Disclosure (VD) process and recommendations for possible improvements or changes (including analysis of how to address “administrative” VDs as distinguished from other VDs) while ensuring that foreign policy and national security interests are met; (2) Cyber Products. Review of “cyber products” and recommendations for which products, if any, should be included on the U.S. Munitions List, and potential impact on cyber products resulting from such export controls; (3) DTAG Structure and Operations. Examination of whether DTAG could function similar to the Commerce Department's Technical Advisory Committees (TACs), how DTAG could interface with such TACs, and whether State, Commerce and the Department of Defense should establish an interagency defense trade advisory group; and (4) Export Control Reform (ECR) status. Report on US industry views regarding licensing flexibilities and efficiencies (including availability of license exception, Strategic Trade Authorization), unintended consequences, and areas of potential improvements, resulting from the transfer of certain items from the jurisdiction of the International Traffic in Arms Regulations (US Munitions List) to the jurisdiction of the Export Administration Regulations (Commerce Control List).

Members of the public may attend this open session and will be permitted to participate in the discussion in accordance with the Chair's instructions. Members of the public may, if they wish, submit a brief statement to the committee in writing.

As seating is limited to 125 persons, those wishing to attend the meeting must notify the DTAG Alternate Designated Federal Officer (DFO) by COB Monday, October 19, 2015. Members of the public requesting reasonable accommodation must also notify the DTAG Alternate DFO by that date. If notified after this date, the Department will be unable to accommodate requests due to requirements at the meeting location.

Each non-member observer or DTAG member that wishes to attend this plenary session should provide: His/her name and identifying data such as driver's license number, U.S. Government ID, or U.S. Military ID, to the DTAG Alternate DFO, Lisa Aguirre, via email at DTAG@state.gov. One of the following forms of valid photo identification will be required for admission to the meeting: U.S. driver's license, passport, U.S. Government ID or other valid photo ID.

For additional information, contact Ms. Glennis Gross-Peyton, PM/DDTC, SA-1, 12th Floor, Directorate of Defense Trade Controls, Bureau of Political-Military Affairs, U.S. Department of State, Washington, DC 20522-0112; telephone (202) 663-2862; FAX (202) 261-8199; or email DTAG@state.gov.

Dated: September 9, 2015.
Lisa V. Aguirre,
Alternate Designated Federal Officer, Defense Trade Advisory Group, Department of State.

[FR Doc. 2015-24194 Filed 9-22-15; 8:45 am]

BILLING CODE 4710-25-P